COMMITTEE FOR PURCHASE FROM PEOPLE WHO ARE BLIND OR SEVERELY DISABLED

Procurement List; Proposed Additions and Deletion

AGENCY: Committee for Purchase from People Who Are Blind or Severely Disabled.

ACTION: Proposed additions to and deletions from Procurement List.

SUMMARY: The Committee is proposing to add to the Procurement List products and services to be furnished by nonprofit agencies employing persons who are blind or have other severe disabilities, and to delete a product previously furnished by such agencies.

Comments Must Be Received on or Before: February 26, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION: This notice is published pursuant to 41 U.S.C. 47(a) (2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Product/NSNs: Specimen Container

6550-00-NIB-0009—¼ turn cap, sterile individually wrapped;

6550-00-NIB-0010—¼ turn cap, sterile;

6550-00-NIB-0011—¼ turn cap, non-sterile;

6550-00-NIB-0013—full turn cap, non-sterile

NPA: Alphapointe Association for the Blind, Kansas City, Missouri

Contracting Activity: Veterans Affairs National Acquisition Center, Hines, Illinois

Services

Service Type/Location: Document Destruction.

NISH, Vienna, Virginia (PRIME CONTRACTOR). Performance to be allocated to the Nonprofit Agencies identified at the following locations:

Internal Revenue Service, 1700 Palm Beach Lakes Boulevard, West Palm Beach, Florida

7410 South U.S. Highway One, Port St. Lucie, Florida.

NPA: Association for Retarded Citizens of Indian River County, Vero Beach, Florida.

Internal Revenue Service,

2201 Cantu Court, Sarasota, Florida,

2891 Center Point Drive, Fort Myers, Florida,

300 Lock Road, Deerfield Beach, Florida,

51 SW First Avenue, Miami, Florida,

7850 SW 6th Court, Plantation, Florida,

Royal Palm One, Suite 34, 1000 South Pine Island Road, Plantation, FL.

NPA: Goodwill Industries of South Florida, Inc., Miami, Florida

Contracting Activity: U.S. Treasury, IRS, Chamblee, Georgia.

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the product to the Government.

3. There are no known regulatory alternatives which would accomplish the objectives of the Javits-Wagner-O'Day Act (41 U.S.C. 46-48c) in connection with the product proposed for deletion from the Procurement List.

End of Certification

The following product is proposed for deletion from the Procurement List:

Product

Product/NSNs: Cloth, Abrasive.

5350-00-187-6296—Cloth, Abrasive.

NPA: Louisiana Association for the Blind, Shreveport, Louisiana.

Contracting Activity: GSA, Southwest Supply Center, Fort Worth, Texas.

Sheryl D. Kennerly,
Director, Information Management.

[FR Doc. E6-1026 Filed 1-26-06; 8:45 am]

BILLING CODE 6353-01-P